DEPARTMENT OF DEFENSE

Department of the Army

[Docket ID: USA-2008-0019]

Privacy Act of 1974; System of Records

AGENCY: Department of the Army, DoD.

ACTION: Notice to Delete a System of Records.

SUMMARY: The Department of the Army is deleting a system of records notice in its existing inventory of record systems subject to the Privacy Act of 1974, (5 U.S.C. 552a), as amended.

DATES: This proposed action will be effective without further notice on August 13, 2008 unless comments are received which result in a contrary determination.

ADDRESSES: Department of the Army, Freedom of Information/Privacy Division, U.S. Army Records Management and Declassification Agency, 7701 Telegraph Road, Casey Building, Suite 144, Alexandria, VA 22325-3905.

FOR FURTHER INFORMATION CONTACT: Ms. Vicki Short at (703) 428-6508.

SUPPLEMENTARY INFORMATION: The Office of the Secretary of Defense systems of records notices subject to the Privacy Act of 1974, (5 U.S.C. 552a), as amended, have been published in the Federal Register and are available from the address above.

Dated: July 7, 2008.
Patricia L. Toppings,
OSD Federal Register Liaison Officer, Department of Defense.

A0190-30 DAMO

System name:

Military Police Investigator Certification Files (February 22, 1993, 58 FR 10002).

Deletion:

Commanders can no longer certify personnel to perform military police investigations. The military police investigations regulation requires all personnel performing investigations to be trained at the U.S. Army Military Police School at Fort Leonard Wood, Missouri.

[FR Doc. E8-15930 Filed 7-11-08; 8:45 am]

BILLING CODE 5001-06-P